DEPARTMENT OF COMMERCE

National Oceanic and Atmospheric Administration

Federal Consistency Appeal by Peter and Nancy Fenner From an Objection by the New York Department of State

AGENCY: National Oceanic and Atmospheric Administration (NOAA), Department of Commerce (Commerce)

ACTION: Notice of closure—administrative appeal decision record.

SUMMARY: This announcement provides that the decision record has been closed for an administrative appeal filed with the Department of Commerce by Peter and Nancy Fenner.

DATES: The decision record for the Fenner administrative appeal will close as of the date of publication of this notice.

ADDRESSES: Materials from the appeal record are available at the Office of the Assistant General Counsel for Ocean Services, National Oceanic and Atmospheric Administration, U.S. Department of Commerce, 1305 East-West Highway, Silver Spring, MD 20910.

FOR FURTHER INFORMATION CONTACT: Suzanne Bass, Attorney-Adviser, NOAA Office of the General Counsel, 301-713-2967.

SUPPLEMENTARY INFORMATION: Peter and Nancy Fenner (Appellant) have filed a notice of appeal with the Secretary of Commerce (Secretary) pursuant to section 307(c)(3)(A) of the Coastal Zone Management Act of 1972 (CZMA), as amended, 16 U.S.C. 1456(c)(3)(A), and implementing the regulations found at 15 CFR part 930, subpart H. The Fenners appeal an objection raised by the New York Department of State to a consistency certification contained within their application to the Army Corps of Engineers for a permit to build a catwalk and dock at West Hampton Dune.

The CZMA requires a notice be published in the Federal Register, indicating the date on which the decision record has been closed. A final decision on this appeal must be issued no later than 90 days after publication on this notice. 16 U.S.C. 14659(a). The deadline may be extended by publishing, within the 90-day period, a subsequent notice explaining why a decision cannot be issued within this time frame. In this event, a final decision must be issued no later than 45 days after publication of the subsequent notice. 16 U.S.C. 1465(b).

For additional information about this appeal contact Suzanne Bass, 301-713-2967.

Dated: July 18, 2005.
James R. Walpole,
General Counsel.
[Federal Domestic Assistance Catalog No. 11.419 Coastal Zone Management Program Assistance.]

[FR Doc. 05-14783 Filed 7-26-05; 8:45 am]

BILLING CODE 3510-08-M